ENVIRONMENTAL PROTECTION AGENCY

[FRL-6850-5]

Public Information Hearings on Discharges From Cruise Ships

AGENCY: Environmental Protection Agency (EPA).

ACTION: Notice of meetings.

SUMMARY: EPA, supported by the Coast Guard and other Federal agencies, is hosting three regional public information hearings to gather information regarding the management of wastewater, solid waste, hazardous waste, and other discharges by cruise ships. These hearings are part of an information gathering effort to prepare an assessment of the quality and quantity, environmental impacts, existing control measures, and possible regulation of discharges from cruise ships. Information is being sought from the cruise ship industry, the public and other interested parties. These three information hearings will provide an opportunity for the interested public to provide input into our assessment of waste management on cruise ships.

DATES: See SUPPLEMENTARY INFORMATION section for meeting dates.

ADDRESSES: See SUPPLEMENTARY INFORMATION section for meeting locations.

FOR FURTHER INFORMATION CONTACT: For further information on the hearings or our approach to the assessment of cruise ship discharges, write to the Marine Pollution Control Branch, ATTN: Cruise Ships, US Environmental Protection Agency, MC 4504F, 1200 Pennsylvania Avenue, NW., Washington, DC, 20460, or send an email to Cruise.Ships@epa.gov. You may also call Dorn Carlson at telephone 202/260-6411, or Tom Charlton at telephone 202/260-6960. For information about a specific hearing, please call the Regional contact for that hearing: Los Angeles, CA, Allan Ota (EPA Region 9), 415/744-1980; Juneau, AK, Steve Torok (EPA Region 10), 907/586-7658; Miami, FL, Bob Howard (EPA Region 4), 404/562-9370.

SUPPLEMENTARY INFORMATION: Public Hearing Information: The public hearings will be held on the following dates, times, and locations:

1. Wednesday, September 6, 2000, Session I, from 1 p.m. to 4 p.m., and Session II, from 6 p.m. to 8 p.m., in Los Angeles, CA—Multipurpose Room, Port of Los Angeles, Port Plaza, 100 West 5th St., San Pedro, CA 90731.

2. Friday, September 8, 2000, Session I, from 12 Noon to 6 p.m., and Session II, from 7 p.m. to 10 p.m., in Juneau, AK—Centennial Hall, 101 Egan Drive, Sheffield Ballroom #3, Juneau, AK 99801.

3. Tuesday, September 12, 2000, Session I, from 1 p.m. to 4 p.m., and Session II, from 5 p.m. to 7 p.m., Miami, FL—Embassy Suites Hotel, 3974 NW South River Drive, Miami, FL 33142.

Anyone who plans to speak at any of these hearings should write, call or email a request to speak to the address listed above in the FOR FURTHER INFORMATION CONTACT section. Include your name, affiliation, address, phone number and email address, approximately how much speaking time you desire, and which hearing and session you will attend. We will use this information to try to arrange enough time on the agenda for all comments.

We will make every effort to accommodate your request, but because we do not know how many speakers will come forward, we cannot guarantee that you will be given all the time you request.

To assure that adequate time is alloted for each speaker, please send all requests to present oral comments at the public hearing by August 23, 2000.

Special note for potential attendees for the Juneau, AK, meeting: For the Juneau session, oral presentations will be limited to the evening session. If you are unavailable for the evening session, we will make arrangements to record your statement in the afternoon. The afternoon session in Juneau will be an open house format from Noon to 6:00 p.m. Information displays will be provided and personnel from EPA, U.S. Coast Guard, and Alaska Department of Environmental Conservation will be available to answer questions.

Information on Services for Individuals with Disabilities: For information on facilities or services for individuals with disabilities, or to request special assistance at the meeting, please contact one of the people listed under the FOR FURTHER INFORMATION CONTACT section as soon as possible.

Providing Written Information: We are also interested in receiving any documents that support your oral information, or any other written information on the subject. These written materials may be mailed or emailed to the same address listed in the FOR FURTHER INFORMATION CONTACT section. Please submit your written material or documentation on cruise ship discharges in an unbound format, no larger than 8½ × 11 inches, suitable for copying and electronic filing. Submit an original and three copies. If you want an acknowledgment of receipt of your correspondence, enclose a stamped, self-addressed postcard or envelope. Please submit electronic comments in Microsoft Word, Wordperfect, or ASCII (plain text) format. Avoid using special characters and encryption in your document(s). Please include your name, affiliation, address and phone number. All information provided will become part of the public record. To avoid duplication of documents in the public record, please do not send the same information by paper copy and email.

To assure we have time to review all written information before completing our assessment, please send all written information by August 23, 2000.

How and where to review written information and comments: The record for this notice has been established under docket number W-00-17 (Cruise Ships), and includes supporting documentation as well as printed versions of electronic correspondence. The record is available for inspection from 9 a.m. to 4 p.m., Monday through Friday, excluding legal holidays, at the Water Docket, EB 57, USEPA Headquarters, 401 M. St., SW., Washington, DC. For access to docket materials, please call 202-260-3027.

Background: On March 17, 2000, EPA received a petition asking that EPA undertake an “assessment of the volumes and characteristics of the spectrum of waste streams from cruise ships, analysis of their potential impact on water quality, the marine environment, and human health.” In response to that petition, we are assessing whether discharges from cruise ships currently pose a risk to the environment. EPA is working with the Coast Guard and other Federal agencies on this assessment.

The discharges of particular interest from cruise ships are gray water (wastewater from baths, sinks and galleys), black water (wastewater from toilets), oily bilge water, solid waste (e.g., food waste, paper, cardboard, plastic, wood, metal, glass) and wastes from equipment operations, hotel and restaurant services, photo labs, dry-cleaning, and paints.

Specific information that we are requesting for wastewater, solid waste, and hazardous materials includes:

(1) Quantities and properties;

(2) Methods of discharge or disposal;

(3) Locations of discharge or disposal, such as outside of State waters, 10 miles from port, or in-port waste receptacles;

(4) Environmental impacts; and

(5) Existing regulatory or voluntary controls.

As we consider the range of environmental issues concerning these cruise ship discharges, we are also interested in learning about voluntary environmental management programs and standards used by various cruise ships. We are interested in hearing about new and alternative approaches being proposed or used by the cruise ship industry or by public-private partnerships. These approaches may include: environmental management systems based on ISO 14000 and/or the International Safety Management (ISM) System Code; environmental certification programs developed by Ship Classification Societies; and local or regional Memoranda of Understanding or other agreements between the industry, government, and other stakeholders. We are interested in a comprehensive picture of how various pollution prevention programs are currently being used and how these efforts might be advanced to protect the marine environment. In addition, we are soliciting comments on whether we should consider changes to existing controls or regulations or add new regulations for control of these discharges in order to more adequately protect the environment from the effects of these discharges.

We are not attempting to collect information or comment on air emissions from cruise ships, or on possible impacts of cruise ships other than from their waste management or discharge practices, at these public information hearings.

Dated: August 7, 2000.
Robert H. Wayland III,
Director, Office of Wetlands, Oceans, and Watersheds.

[FR Doc. 00-20516 Filed 8-10-00; 8:45 am]

BILLING CODE 6560-50-P